DEPARTMENT OF LABOR

Employment and Training Administration

Proposed Collection; Comment Request

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed extension of the data collection for the Workforce Investment Act: National Emergency Grant (NEG) Assistance—Application and Reporting Procedures (1205-0439, expires January 31, 2007). A copy of the proposed information collection request (ICR) can be obtained by contacting the office listed below in the addressee section of this notice or at this Web site: http://www.doleta.gov/OMBCN/OMBControlNumber.cfm.

DATES: Written comments must be submitted to the office listed in the addressee section below on or before January 16, 2007.

ADDRESSES: Gregory Willis, Office of National Response, Employment and Training Administration, U.S. Department of Labor, Room N-5426, 200 Constitution Ave., NW., Washington, DC 20210. Phone (202) 693-2759 (this is not a toll-free number), fax (202) 693-3149, or e-mail comments to willis.gregory@dol.gov.

Background:

This information collection is necessary for the U.S. Department of Labor (DOL)/ Employment and Training Administration (ETA)'s award of National Emergency Grants (NEGs). These discretionary grants are intended to temporarily expand the service capacity at the state and local area levels by providing funding assistance in response to significant dislocation events for workforce development and employment services and other adjustment assistance for dislocated workers and other eligible individuals. Eligibility is defined in sections 101, 134 and 173 of the Workforce Investment Act (WIA) (Pub. L. 105-220): sections 113, 114 and 203 of the Trade Adjustment Assistance Reform Act of 2002 (Pub. L. 107-210): and 20 CFR 671.140.

Funds are available for obligation by the Secretary under Sections 132 and 173 of the WIA, and Section 203 of the Trade Act of 2002. Applications will be accepted on an ongoing basis as the need for funds arises at the state and local level.

WIA and the Regulations define four NEG project types:

• REGULAR, which encompasses plant closures, mass layoffs, and multiple layoffs in a single community.

• DISASTER, which includes all eligible FEMA-declared natural and manmade disaster events.

• TRADE-WIA DUAL ENROLLMENT, which provides supplemental funding to ensure that a full range of services is available to trade-impacted individuals eligible under the Trade Adjustment Assistance program provisions of the Trade Act of 2002.

• TRADE HEALTH INSURANCE COVERAGE ASSISTANCE, which provides specialized health coverage, support services, and income assistance to targeted individuals, defined in the Trade Adjustment Assistance Reform Act of 2002.

NEG Data Collection Forms are as follows:

ETA-9103, Cumulative Quarterly Planning Form

ETA-9104, Quarterly Report

ETA-9105, Employer Data Form

ETA-9106, Project Synopsis

ETA-9107, Project Operator Data Form

I. Review Focus: The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

II. Current Actions: This is a notice to extend the collection period that is currently approved by OMB (1205-0446 expires October 31, 2006).

Type of Review: Extension of a currently approved collection.

Agency: Employment and Training Administration.

Title: Workforce Investment Act: National Emergency Grant (NEG) Assistance—Application and Reporting Procedures.

OMB Number: 1205-0439.

Affected Public: State, local, or tribal government.

Total Respondents: 150.

Estimated Total Burden Hours: 1,096.

Total Burden Cost (capital/startup): $0.

Total Burden Cost (operating/maintaining): $0.

Comments submitted in response to this comment request will be summarized and/or included in the request for Office of Management and Budget approval of the information collection request; they will also become a matter of public record.

Dated: November 9, 2006.
Erica Cantor,
Administrator, Office of National Response.

[FR Doc. E6-19425 Filed 11-15-06; 8:45 am]

BILLING CODE 4510-30-P